DEPARTMENT OF AGRICULTURE

Submission for OMB Review; Comment Request

December 15, 2014.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), OIRA_Submission@OMB.EOP.GOV or fax (202) 395-5806 and to Departmental Clearance Office, USDA, OCIO, Mail Stop 7602, Washington, DC 20250-7602. Comments regarding these information collections are best assured of having their full effect if received within 30 days of this notification. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Office of Procurement and Property Management

Title: Guidelines for the Transfer of Excess Computer or Other Technical Equipment Pursuant to Section 14220 of the 2008 Farm Bill

OMB Control Number: 0505-0023.

Summary of Collection: In accordance with procedures in the Federal Management regulation, Subpart 102-36.295, each agency is responsible for submitting an annual report to the General Services Administration of all personal property furnished to non-Federal recipients. Respondents will be authorized representatives of a city, town, or local government entity located in a rural area as defined in 7 U.S.C. 1991(a)(13)(A).

Need and Use of the Information: USDA requires information to: verify eligibility of requestors; determine availability of excess property; have contact information of the requestor available; and to ensure an organization is designated to receive property on behalf of an eligible recipient. Information is collected via letters from requestors. The request must include: (1) Type of excess computers or other technical equipment requested; (2) Justification for eligibility; (3) Contact information of the requestor; (4) Logistical information such as when and how the property will be picked up; and (5) Information on the recipient's designated organization that will receive and refurbish the property for the recipient.

Description of Respondents: State, Local or Tribal Government.

Number of Respondents: 10.

Frequency of Responses: Reporting: On occasion.

Total Burden Hours: 2.

Ruth Brown,
Departmental Information Collection Clearance Officer.

[FR Doc. 2014-29798 Filed 12-19-14; 8:45 am]

BILLING CODE 3410-TX-P